DEPARTMENT OF EDUCATION

Applications for New Awards; Personnel Development To Improve Services and Results for Children With Disabilities—National Center for the Development and Dissemination of Digital Open Educational Tools and Resources Supported by Evidence To Enhance Personnel Preparation and Professional Development for Educators of Students With Disabilities

AGENCY: Office of Special Education and Rehabilitative Services, Department of Education.

ACTION: Notice.

SUMMARY: The Department of Education is issuing a notice inviting applications for new awards for fiscal year (FY) 2017 for Personnel Development to Improve Services and Results for Children with Disabilities—National Center for the Development and Dissemination of Digital Open Educational Tools and Resources Supported by Evidence to Enhance Personnel Preparation and Professional Development for Educators of Students with Disabilities, Catalog of Federal Domestic Assistance (CFDA) number 84.325E.

DATES: Applications Available: May 22, 2017.

Deadline for Transmittal of Applications: July 6, 2017.

Deadline for Intergovernmental Review: September 5, 2017.

FOR FURTHER INFORMATION CONTACT: Sarah Allen, U.S. Department of Education, 400 Maryland Avenue SW., Room 5144, Potomac Center Plaza, Washington, DC 20202-5108. Telephone: (202) 245-7875. Email: Sarah.Allen@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of this program are to (1) help address State-identified needs for personnel preparation in special education, early intervention, related services, and regular education to work with children, including infants and toddlers, with disabilities; and (2) ensure that those personnel have the necessary skills and knowledge, derived from practices that have been determined through scientifically based research and experience, to be successful in serving those children.

Priority: In accordance with 34 CFR 75.105(b)(2)(v), this priority is from allowable activities specified in the statute (see sections 662 and 681 of the Individuals with Disabilities Education Act (IDEA); 20 U.S.C. 1462 and 20 U.S.C. 1481).

Absolute Priority: For FY 2017 and any subsequent year in which we make awards from the list of unfunded applicants from this competition, this priority is an absolute priority. Under 34 CFR 75.105(c)(3), we consider only applications that meet this priority.

This priority is:

National Center for the Development and Dissemination of Digital Open Educational Tools and Resources Supported by Evidence to Enhance Personnel Preparation and Professional Development for Educators of Students with Disabilities (Center).

Background:

The purpose of this priority is to fund a cooperative agreement to establish and operate a center that will design, develop, and disseminate digital ¹ open educational ² tools and resources to build the capacity of educators to use practices supported by evidence (as defined in this notice) and improve results for students with disabilities.

¹ “Digital” means any instructional practice that effectively uses technology to strengthen a student's learning experience and encompasses a wide spectrum of tools and practices (e.g., interactive learning resources, software, access to databases)(Elementary and Secondary Education Act of 1965, as amended by the Every Student Succeeds Act, 2015).

² “Open educational resources” (OER) are teaching and learning materials that are in the public domain or have been released under a license that permits their free use, reuse, modification, and sharing with others.

Educators' ³ use of instructional and intervention practices supported by evidence is a critical factor in improving developmental and learning outcomes (e.g., academic, social, emotional, behavioral) for all students, especially students with disabilities. Effective educators support students' growth toward improved outcomes and also tend to play an important role in supporting the families of students with disabilities (Jaquith, Mindich, Wei, & Darling-Hammond, 2010; Institute of Medicine and National Research Council, 2012).

³ For the purpose of this priority, “educators” refers to general and special education teachers and leaders (e.g., principals and assistant principals), related services providers, and other personnel serving students with disabilities and their families.

While there are a wide range of proven strategies that may be used to support and enhance the overall effectiveness of educators, digital learning tools and resources are playing an increasingly important role in building the capacity of educators to use practices supported by evidence and improve results for students with disabilities. Educators need access to high-quality digital learning tools and resources that can be used to supplement both formal and informal pre-service and in-service training on best practices in improving results for students with disabilities. Resources are most effective when they are accessible and linked to clearly defined learning outcomes (U.S. Department of Education, 2016).

Since 2001, the Office of Special Education Programs (OSEP) has funded national centers dedicated to improving education outcomes for all children, especially those with disabilities birth through age 21 years, through the use of effective practices supported by evidence and interventions delivered through a variety of online means (e.g., http://iris.peabody.vanderbilt.edu/). These digital tools and resources (e.g., modules, case studies) are widely used by faculty at institutions of higher education (IHEs) to enhance pre-service training courses for educators. However, the demand for high-quality digital learning tools and resources continues to grow, speaking to the need to develop more content addressing new topics and to ensure that existing tools and resources remain up to date.

Through this Center, OSEP proposes to design, develop, and disseminate innovative digital open educational tools and resources that: (1) Are accessible to as wide a range of users as possible. This includes, but is not limited to, printed and online documents in all formats (e.g., Word, PDF, HTML, videos, webinars, and podcasts). A resource that can provide information to accomplish this is Web AIM: Web Accessibility in Mind at Utah State University (see http://webaim.org); (2) use existing and emerging technologies to support pre-service and in-service training for educators; and (3) demonstrate multiple pathways to learning for educators.

Priority:

The purpose of this priority is to fund a cooperative agreement to establish and operate a center that will design, develop, and disseminate digital open educational tools and resources to build the capacity of educators to use practices supported by evidence and improve results for students with disabilities. The Center must achieve, at a minimum, the following outcomes:

(a) Design, develop, and deliver innovative accessible digital open educational tools and resources to enhance educators' knowledge, skills, and competencies in developing, delivering, and evaluating instruction and intervention supported by evidence to students with disabilities;

(b) Ensure that the tools and resources developed by the Center are licensed through an open access licensing authority;

(c) Increase the capacity of pre-service training programs to expand the range of instructional practices and interventions supported by evidence included in their curricula for educators who will serve students with disabilities and their families;

(d) Increase the capacity of State educational agencies (SEAs), local educational agencies (LEAs), and other professional development providers to select and deliver professional development supported by evidence, using digital learning tools and resources, and to certify knowledge or skill acquisition by participants; and

(e) Increase the capacity of educators to independently increase their knowledge, skills, and use of instructional practices and interventions supported by evidence.

In addition to these programmatic requirements, to be considered for funding under this priority, applicants must meet the application and administrative requirements in this priority, which are:

(a) Demonstrate, in the narrative section of the application under “Significance of the Project,” how the proposed project will—

(1) Identify and address present and ongoing needs for educators to use instructional practices and interventions supported by evidence to improve outcomes for students with disabilities, including students with high-intensity needs ⁴ and their families. To meet this requirement, the applicant must—

⁴ For the purposes of this priority, “high-intensity needs” refers to a complex array of disabilities (e.g., multiple disabilities, significant cognitive disabilities, significant physical disabilities, significant sensory disabilities, significant autism, significant emotional disabilities, significant learning disabilities, including dyslexia) or needs of children with these disabilities requiring intensive, individualized intervention(s) (i.e., that are specifically designed to address persistent learning or behavior difficulties, implemented with greater frequency and for an extended duration than is commonly available in a typical classroom or early intervention setting, or which requires personnel to have knowledge and skills in identifying and implementing multiple interventions supported by evidence).

(i) Demonstrate knowledge of current needs of personnel preparation programs, SEAs, LEAs and other professional development providers and challenges that they face in building the capacity of educators to use instructional practices and interventions supported by evidence in school settings to improve outcomes for students with disabilities;

(ii) Demonstrate knowledge of existing and emerging needs for digital learning tools and resources for use in pre-service and in-service training programs to expand the depth and breadth of coverage of instructional practices and interventions supported by evidence;

(iii) Identify existing needs and recent developments in using technology to enhance adult learning, and emerging pedagogical strategies in the use of technology for teaching and learning in conjunction with pre-service and in-service training programs. To meet this requirement, the applicant must—

(A) Demonstrate knowledge of and expertise developing accessible, digital open educational tools and resources to enhance pre-service or in-service training programs that build the capacity of educators to use instructional practices and interventions supported by evidence to improve outcomes for students with disabilities, which may include identifying experience and providing data showing outcomes from previous work in this area;

(B) Demonstrate knowledge of and expertise using emerging technologies to support teaching and learning of educators, which may include identifying experience and providing data showing outcomes from previous work with personnel preparation or ongoing professional development programs in this area;

(C) Demonstrate knowledge of and expertise using effective approaches to systematically disseminating knowledge using digital open educational tools and resources to a variety of entities such as IHEs, SEAs, LEAs, and other programs that provide pre-service preparation and in-service professional development for educators, which may include identifying experience and providing data showing outcomes from previous work in this area;

(D) Demonstrate knowledge of and expertise using digital tools and resources to assess learning and competence, track progress and accomplishments, and validate knowledge, skills, and competencies learned, which may include identifying experience and providing data showing outcomes from previous work in this area;

(E) Demonstrate knowledge of and expertise implementing technical assistance (TA) strategies supported by evidence to a variety of entities such as IHEs, SEAs, LEAs, and other programs that provide personnel preparation or professional development for educators, which may include identifying experience and providing data showing outcomes from previous work in this area; and

(F) Demonstrate knowledge of and expertise using technology for delivery of TA or digital teaching designed to support learning for faculty and professional development providers, which may include identifying experience, and providing data showing outcomes from previous work in this area.

(b) Demonstrate, in the narrative section of the application under “Quality of the Project Services,” how the proposed project will—

(1) Ensure equal access to digital learning tools and resources for members of groups that have traditionally been underrepresented based on race, color, national origin, gender, age, or disability. To meet this requirement, the applicant must describe how it will—

(i) Identify the needs of the intended recipients including individuals enrolled in personnel preparation programs and educators seeking professional development; and

(ii) Ensure that digital tools and resources meet the needs of the intended recipients by creating materials in formats and languages accessible to the intended recipients served by IHE faculty, SEA and LEA professional development providers, and others, as appropriate;

(2) Achieve the intended outcomes. To meet this requirement, the applicant must provide—

(i) Measureable intended project goals and objectives consistent with the intended outcomes specified in this notice; and

(ii) The logic model by which the proposed project will achieve its intended outcomes. A logic model used in connection with this priority communicates how a project will achieve its intended outcomes and provides a framework for both the formative and summative evaluations of the project;

(3) Use a conceptual framework to develop project plans and activities, describing any underlying concepts, assumptions, expectations, beliefs, or theories, as well as the presumed relationships or linkages among these variables, and any empirical support for this framework;

Note: Rather than use the definition of “logic model” in section 77.1(c) of EDGAR, OSEP uses the definition in paragraph (b)(2)(ii) of these application requirements. This definition, unlike the definition in 34 CFR 77.1(c), differentiates between logic models and conceptual frameworks. The following Web sites provide more information on logic models: www.osepideasthatwork.org/logicModel and www.osepideasthatwork.org/resources-grantees/program-areas/ta-ta/tad-project-logic-model-and-conceptual-framework.

(4) Be based on current research and make use of practices supported by evidence. To meet this requirement, the applicant must describe—

(i) The current research on educators' use of instructional practices and interventions supported by evidence in school settings to improve outcomes for students with disabilities, including students with high-intensity needs, and their families;

(ii) The current research on use of digital learning tools and resources by structured programs and individual learners for pre-service preparation and in-service professional development;

(iii) The current research about adult learning principles and implementation science that will inform the proposed product design, development, dissemination, and TA services; and

(iv) How the proposed project will incorporate current practices supported by evidence in the design, development and delivery of its digital learning tools and resources;

(5) Develop and disseminate digital learning tools and resources, and deliver training and technical assistance services that are of high quality, and sufficient intensity and duration to achieve the intended outcomes of the proposed project. To address this requirement, the applicant must describe—

(i) Its proposed approach to universal, general TA,⁵ which must identify how the project will design, develop, and disseminate accessible and high-quality digital learning tools and resources, at no cost to recipients, on topics addressing use of instructional practices and interventions supported by evidence in school settings to improve outcomes for students with disabilities that can be—

⁵ “Universal, general TA” means TA and information provided to independent users through their own initiative, resulting in minimal interaction with TA center staff and including one-time, invited or offered conference presentations by center staff. This category of TA also includes information or products, such as newsletters, guidebooks, or research syntheses, downloaded from the center's Web site by independent users. Brief communication by center staff with recipients, either by telephone or email, also are considered universal, general TA.

(A) Integrated into structured pre-service personnel preparation courses and curricula, in-service professional development programs, and personalized learning plans for educators;

(B) Used in both traditional and nontraditional learning environments (e.g., teacher preparation academies, rural communities, charter schools);

(C) Used as a stand-alone learning opportunity, or connected and sequenced to provide multiple pathways to learning with clear, specific learning goals that are aligned to objectives in a personnel preparation program (e.g., professional practice standards, professional licensure or certification), or strategic statewide (e.g., State Systemic Improvement Plans), local, or personal professional learning plans for educators to increase knowledge, skills, and use of practices supported by evidence to improve outcomes for students with disabilities;

(D) Developed to expand the depth of digital learning tools and resources by covering content from basic knowledge to advanced skills and demonstrate different levels of pedagogical intensity (i.e., requires personnel to have knowledge and skills in identifying and implementing multiple interventions at different levels of intensity, supported by evidence) based on students' needs; and

(E) Employed to assess learning and competence, track progress and accomplishment, and validate knowledge, skills and competencies learned, and potentially earn credentials.

(ii) A multi-tiered plan for disseminating these resources which should include, at a minimum, clear strategies for disseminating resources to targeted populations (e.g., IHEs, SEAs, LEAs, and other programs that provide preparation or professional development for educators, parents) linked to measurable outcomes.

(iii) Its proposed approach to targeted, specialized TA,⁶ which must identify how the project will—

⁶ “Targeted, specialized TA” means TA services based on needs common to multiple recipients and not extensively individualized. A relationship is established between the TA recipient and one or more center staff. This category of TA includes one-time, labor-intensive events, such as facilitating strategic planning or hosting regional or national conferences. It also can include episodic, less labor-intensive events that extend over a period of time, such as facilitating a series of conference calls on single or multiple topics that are designed around the needs of the recipients. Delivering digital content using facilitated online professional development can be considered targeted, specialized TA.

(A) Identify potential recipients and their potential uses of Center digital learning tools and resources under this approach;

(B) Assist pre-service and in-service training programs in incorporating accessible, high-quality digital learning tools and resources into their curricula. To address this requirement, the applicant must describe how it will—

(1) Measure the readiness of potential targeted TA recipients to work with the project, assessing, at a minimum, their current technical capacity and proposed strategies for linking new and emerging technology resources to personnel preparation or professional development learning objectives, available resources and strategies for ensuring technology updates and improvements, and ability to build capacity for ongoing personnel preparation or professional development program reform and continuous improvement at the program level;

(2) Select and provide targeted, specialized TA to IHEs, SEAs, or other professional development providers on how to incorporate Center learning tools and resources into their curricula. To address this requirement, the applicant must describe—

(i) How the Center proposes to identify specific training needs or areas that would benefit a targeted group of IHEs, SEAs, or professional development providers; and

(ii) How the Center proposes to develop and deliver customized training and TA in response to the identified needs;

(3) Collaborate with other federally funded projects on how to integrate Center digital open educational tools and resources into projects' TA and professional development activities.

(C) Implement TA services that maximize efficiency. To address this requirement, the applicant must describe—

(1) How the proposed project will use existing and emerging technologies, professional development strategies, and innovation to achieve the intended outcomes specified in the Priority section of this notice;

(2) With whom the proposed project will communicate and collaborate on an ongoing basis, including but not limited to other OSEP-funded investments (see www.osepideasthatwork.org/find-center-or-grant/find-a-center), and how the proposed collaborations will promote the use of this Center's digital tools and resources by other federally funded investments to achieve the intended outcomes of their projects; and

(3) If applicable, how the proposed project will use non-project resources to achieve the intended project outcomes;

(4) Develop and maintain an organizational structure needed to:

(i) Efficiently and effectively design, develop, and disseminate Center digital learning tools and resources;

(ii) Assess learning, track progress and accomplishments, and validate knowledge, skills, and competencies learned and potentially earn credentials;

(iii) Disseminate information and deliver training and technical support to users of Center digital learning tools and resources; and

(iv) Promote long-term sustainability of Center digital learning tools and resources by identifying reliable means to replace and upgrade content and its infrastructure.

(c) In the narrative section of the application under “Quality of the Evaluation Plan,” include an evaluation plan for the project as described in the following paragraphs. The evaluation plan must describe: Measures of progress in implementation, including the extent to which the project's digital learning tools and resources have reached its target population; measures of intended outcomes or results of the project's activities in order to evaluate those activities; and how well the goals or objectives of the proposed project, as described in its logic model, have been met.

The applicant must provide an assurance that, in designing the evaluation plan, it will—

(1) Designate, with the approval of the OSEP project officer, a project liaison staff person with sufficient dedicated time, experience in evaluation, and knowledge of the project to work in collaboration with the Center to Improve Program and Project Performance (CIP3),⁷ the project director, and the OSEP project officer on the following tasks:

⁷ The major tasks of CIP3 are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIP3 are expected to enhance individual project evaluation plans by providing expert and unbiased TA in designing the evaluations with due consideration of the project's budget. CIP3 does not function as a third-party evaluator.

(i) Revise, as needed, the logic model submitted in the grant application to provide for a more comprehensive measurement of implementation and outcomes and to reflect any changes or clarifications to the model discussed at the kick-off meeting;

(ii) Refine the evaluation design and instrumentation proposed in the grant application consistent with the logic model (e.g., prepare evaluation questions about significant program processes and outcomes; develop quantitative or qualitative data collections that permit both the collection of progress data, including fidelity of implementation, as appropriate, and the assessment of project outcomes; and identify analytic strategies); and

(iii) Revise, as needed, the evaluation plan submitted in the grant application such that it clearly—

(A) Specifies the measures and associated instruments or sources for data appropriate to answer the evaluation questions, suggests analytic strategies for those data, provides a timeline for conducting the evaluation, and includes staff assignments for completion of the plan;

(B) Delineates the data expected to be available by the end of the second year for use during the project's evaluation (3+2 review) for continued funding described under the heading Fourth and Fifth Years of the Project; and

(C) Can be used to assist the project director and the OSEP project officer, with the assistance of CIP3, as needed, to specify the performance measures to be addressed in the project's Annual Performance Report;

(2) Cooperate with CIP3 staff in order to accomplish the tasks described in paragraph (1) of this section; and

(3) Dedicate sufficient funds in each budget year to cover the costs of carrying out the tasks described in paragraphs (1) and (2) of this section and implementing the evaluation plan.

(d) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Allocation of key project personnel and any consultants and subcontractors and how these allocations are appropriate and adequate to achieve the project's intended outcomes;

(3) The proposed management plan will ensure that the project's products and services are of high quality, relevant, and useful to recipients; and

(4) The proposed project will benefit from a diversity of perspectives, including those of families, educators, TA providers, researchers, and policy makers, among others, in its development and operation.

(f) Address the following application requirements The applicant must—

(1) Include, in Appendix A, a logic model that depicts, at a minimum, the goals, activities, outputs, and intended outcomes of the proposed project.

(2) Include, in Appendix A, a conceptual framework for the project;

(3) Include, in Appendix A, personnel-loading charts and timelines, as applicable, to illustrate the management plan described in the narrative;

(4) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or authorized representative;

(ii) A two and one-half day project directors' conference in Washington, DC, during each year of the project period;

(iii) Two annual two-day trips to attend Department briefings, Department-sponsored conferences, and other meetings, as requested by OSEP; and

(iv) A one-day intensive 3+2 review meeting in Washington, DC, during the last half of the second year of the project period;

(5) Include, in the budget, a line item for an annual set-aside of five percent of the grant amount to support emerging needs that are consistent with the proposed project's intended outcomes, as those needs are identified in consultation with and approved by the OSEP project officer. With approval from the OSEP project officer, the project must reallocate any remaining funds from this annual set-aside no later than the end of the third quarter of each budget period;

(6) Maintain a high-quality Web site, with an easy-to-navigate design, that meets government or industry-recognized standards for accessibility; and

(7) Include, in Appendix A, an assurance to assist OSEP with the transfer of pertinent resources and products and to maintain the continuity of services to States during the transition to this new award period and at the end of this award period, as appropriate.

Fourth and Fifth Year of the Project:

In deciding whether to continue funding the project for the fourth and fifth years, the Secretary will consider the requirements of 34 CFR 75.253(a), as well as—

(a) The recommendation of a 3+2 review team consisting of experts selected by the Secretary. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

References:

Institute of Medicine and National Research Council. 2012. The early childhood care and education workforce: Challenges and opportunities: A workshop report. Washington, DC: The National Academies Press.

Jaquith, A., Mindich, D., Wei, R.C., & Darling-Hammond, L. (2010). Teacher professional learning in the United States: Case studies of State policies and strategies. Oxford, OH: Learning Forward.

U.S. Department of Education, Office of Educational Technology. (2016). Future ready learning: Reimagining the role of technology in education. Washington, DC: Author. Retrieved from http://tech.ed.gov/files/2015/12/NETP16.pdf.

Definitions:

For the purposes of this priority:

Supported by evidence means supported by at least strong theory.

Strong theory means a rationale for the proposed process, product, strategy, or practice that includes a logic model. (34 CFR 77.1)

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1462 and 1481.

Applicable Regulations: (a) The Education Department General Administrative Regulations (EDGAR) in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to IHEs only.

II. Award Information

Type of Award: Cooperative agreement.

Estimated Available Funds: The Administration has requested $83,700,000 for the Personnel Development to Improve Services and Results for Children with Disabilities program for FY 2017, of which we intend to use an estimated $1,200,000 for this competition. The actual level of funding, if any, depends on final congressional action. However, we are inviting applications to allow enough time to complete the grant process if Congress appropriates funds for this program.

Contingent upon the availability of funds and the quality of applications, we may make additional awards in FY 2018 from the list of unfunded applicants from this competition.

Maximum Awards: We will reject any application that proposes a budget exceeding $1,200,000 for a single budget period of 12 months.

Estimated Number of Awards: 1.

Note: The Department is not bound by any estimates in this notice.

Project Period: Up to 60 months.

III. Eligibility Information

1. Eligible Applicants: SEAs; LEAs, including public charter schools that are considered LEAs under State law; IHEs; other public agencies; private nonprofit organizations; freely associated States and outlying areas; Indian Tribes or Tribal organizations; and for-profit organizations.

2. Cost Sharing or Matching: This program does not require cost sharing or matching.

3. Eligible Subgrantees: (a) Under 34 CFR 75.708(b) and (c) a grantee may award subgrants—to directly carry out project activities described in its application—to the following types of entities: SEAs; LEAs, including public charter schools that are considered LEAs under State law; IHEs; other public agencies; private nonprofit organizations; freely associated States and outlying areas; Indian Tribes or Tribal organizations; and for-profit organizations suitable to carry out the activities proposed in the application.

(b) The grantee may award subgrants to entities it has identified in an approved application.

4. Other General Requirements:

(a) Recipients of funding under this competition must make positive efforts to employ and advance in employment qualified individuals with disabilities (see section 606 of IDEA).

(b) Each applicant for, and recipient of, funding under this competition must involve individuals with disabilities, or parents of individuals with disabilities ages birth through 26, in planning, implementing, and evaluating the project (see section 682(a)(1)(A) of IDEA).

IV. Application and Submission Information

1. Address to Request Application Package: You can obtain an application package via the internet or from the Education Publications Center (ED Pubs). To obtain a copy via the internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a TDD or a TTY, call, toll free: 1-877-576-7734.

You can contact ED Pubs at its Web site, also: www.EDPubs.gov or at its email address: edpubs@inet.ed.gov.

If you request an application from ED Pubs, be sure to identify this competition as follows: CFDA number 84.325E.

Individuals with disabilities can obtain a copy of the application package in an accessible format (e.g., braille, large print, audiotape, or compact disc) by contacting the person or team listed under Accessible Format in section VII of this notice.

2. Content and Form of Application Submission: Requirements concerning the content and form of an application, together with the forms you must submit, are in the application package for this competition.

Page Limit: The application narrative (Part III of the application) is where you, the applicant, address the selection criteria that reviewers use to evaluate your application. We recommend that you—(1) limit Part III to no more than 70 pages, and (2) use the following standards:

• A “page” is 8.5″ × 11″, on one side only, with 1″ margins at the top, bottom, and both sides.

• Double-space (no more than three lines per vertical inch) all text in the application narrative, including titles, headings, footnotes, quotations, reference citations, and captions, as well as all text in charts, tables, figures, graphs, and screen shots.

• Use a font that is either 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of Part III, the application narrative, including all text in charts, tables, figures, graphs, and screen shots.

3. Submission Dates and Times:

Applications Available: May 22, 2017.

Deadline for Transmittal of Applications: July 6, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT. If the Department provides an accommodation or auxiliary aid to an individual with a disability in connection with the application process, the individual's application remains subject to all other requirements and limitations in this notice.

Deadline for Intergovernmental Review: September 5, 2017.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the National Center for the Development and Dissemination of Digital Open Educational Learning Tools and Resources Supported by Evidence to Enhance Personnel Preparation and Professional Development for Educators of Students with Disabilities competition, CFDA number 84.325E, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the National Center for the Development and Dissemination of Digital Open Educational Learning Tools and Resources Supported by Evidence to Enhance Personnel Preparation and Professional Development for Educators of Students with Disabilities competition at www.Grants.gov. You must search for the downloadable application package for this competition by the CFDA number. Do not include the CFDA number's alpha suffix in your search (e.g., search for 84.325, not 84.325E).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only Portable Document Format (PDF). Do not upload an interactive or fillable PDF file. If you upload a file type other than a read-only PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF. Additional, detailed information on how to attach files is in the application instructions.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the internet to submit your application.

If you mail your written statement to the Department, it must be postmarked no later than two weeks before the application deadline date. If you fax your written statement to the Department, we must receive the faxed statement no later than two weeks before the application deadline date.

Address and mail or fax your statement to: Sarah Allen, U.S. Department of Education, 400 Maryland Avenue SW., Room 5144, Potomac Center Plaza, Washington, DC 20202-5108. FAX: (202) 245-7590.

Your paper application must be submitted in accordance with the mail or hand-delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.325E), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.325E), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are listed in the application package.

(a) Significance (5 points).

(1) The Secretary considers the significance of the proposed project.

(2) In determining the significance of the proposed project, the Secretary considers one or more of the following factors:

(i) The extent to which the proposed project will address specific gaps or weaknesses in services, infrastructure, or opportunities that have been identified.

(ii) The importance or magnitude of the results or outcomes likely to be attained by the proposed project.

(b) Quality of the project services (40 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers one or more of the following factors:

(i) The extent to which the goals, objectives, and outcomes to be achieved by the proposed project are clearly specified and measurable.

(ii) The extent to which there is a conceptual framework underlying the proposed activities and the quality of that framework.

(iii) The extent to which the services to be provided by the proposed project reflect up-to-date knowledge from research and effective practice.

(iv) The extent to which the proposed products and services are of sufficient quality, intensity, and duration to lead to the outcomes to be achieved by the proposed project.

(v) The extent to which the products and services to be developed and provided by the proposed project involve the use of efficient strategies, including the use of technology, collaboration with appropriate partners, and the leveraging of non-project resources.

(c) Quality of the project evaluation (20 points).

(1) The Secretary considers the quality of the evaluation to be conducted of the proposed project.

(2) In determining the quality of the evaluation, the Secretary considers one or more of the following factors:

(i) The extent to which the methods of evaluation are thorough, feasible, and appropriate to the goals, objectives, and outcomes of the proposed project.

(ii) The extent to which the methods of evaluation will provide data and performance feedback for examining the effectiveness of project implementation strategies and the progress toward achieving intended outcomes.

(iii) The extent to which the methods of evaluation will produce quantitative and qualitative data that demonstrate the project has met intended outcomes.

(d) Adequacy of project resources (15 points).

(1) The Secretary considers the adequacy of resources, including the personnel who will carry out the proposed project.

(2) In determining the adequacy of resources, the Secretary considers the extent to which the applicant encourages applications for employment from persons who are members of groups that have traditionally been underrepresented based on race, color, national origin, gender, age, or disability.

(3) In addition, the Secretary considers one or more of the following factors:

(i) The qualifications, including relevant training and experience, of key project personnel (i.e., project director, project staff, and project consultants or subcontractors).

(ii) The adequacy of support, including facilities, equipment, supplies, and other resources, from the applicant organization and key partners.

(iii) The extent to which the costs are reasonable in relation to the anticipated results and benefits.

(e) Quality of management plan (20 points).

(1) The Secretary considers the quality of the management plan for the proposed project.

(2) In determining the quality of the management plan for the proposed project, the Secretary considers one or more of the following factors:

(i) The adequacy of the management plan to achieve the objectives of the proposed project on time and within budget, including clearly defined responsibilities, timelines, and milestones for accomplishing project tasks.

(ii) The extent to which the time commitments of the project director, project staff, and project consultants or subcontractors are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: (a) We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

(b) In addition, in making a competitive grant award, the Secretary also requires various assurances, including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that, for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Special Conditions: Consistent with 2 CFR 200.205, before awarding grants under this competition the Department conducts a review of the risks posed by applicants. Under 2 CFR 3474.10, the Secretary may impose special conditions and, in appropriate circumstances, high risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. For purposes of this priority, the Center will use these measures, which focus on the extent to which projects provide high-quality open educational digital learning tools, resources, and services; the relevance of project digital learning tools, resources, and services to educational policy and practice; and the use of digital learning tools, resources, and services to improve educational policy and practice.

Projects funded under this competition are required to submit data on these measures as directed by OSEP.

Grantees will be required to report information on their project's performance in annual and final performance reports to the Department (34 CFR 75.590).

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW., Room 5113, Potomac Center Plaza, Washington, DC 20202-2500. Telephone: (202) 245-7363. If you use a TDD or a TTY, call the FRS, toll free, at 1-800-877-8339.

Electronic Access to This Document: The official version of this document is the document published in the Federal Register. Free internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: May 17, 2017.
Ruth E. Ryder,
Deputy Director, Office of Special Education Programs, delegated the duties of the Assistant Secretary for Special Education and Rehabilitative Services.

[FR Doc. 2017-10450 Filed 5-19-17; 8:45 am]

BILLING CODE 4000-01-P